DEPARTMENT OF THE INTERIOR

Bureau of Land Management

[LLNV912000 L13400000.PQ0000 LXSS006F0000; MO#4500090018]

Notice of Public Meeting: Bureau of Land Management Nevada Resource Advisory Councils; Postponement

AGENCY: Bureau of Land Management, Interior.

ACTION: Notice of public meeting; Postponement.

SUMMARY: In the notice published Monday, February 1, 2016 (81 FR 5132), a public meeting of the Bureau of Land Management Nevada Resource Advisory Councils was announced.

The BLM Nevada Resource Advisory Council meeting scheduled for February 10-11, 2016 has been postponed to allow for additional public notice. A new meeting date will be announced at a later time.

Neil Kornze,
BLM Director.

[FR Doc. 2016-02405 Filed 2-4-16; 8:45 am]

BILLING CODE 4310-84-P